DEPARTMENT OF HEALTH AND HUMAN SERVICES

National Institutes of Health

National Institute of Mental Health; Notice of Meeting

Pursuant to section 10(a) of the Federal Advisory Committee Act, as amended (5 U.S.C. App.), notice is hereby given of a joint meeting of the Interagency Autism Coordinating Committee (IACC) Subcommittee on Safety and the IACC Services Subcommittee.

The IACC Subcommittee on Safety and Services Subcommittee will be having a joint in-person meeting on Thursday, May 19, 2011. The two subcommittees plan to discuss issues related to seclusion and restraint and autism spectrum disorder (ASD). The meeting will be open to the public and accessible through a conference call and live Webcast.

Name of Committee: Interagency Autism Coordinating Committee (IACC).

Type of Meeting: Subcommittee on Safety and Services Subcommittee Joint Meeting.

Date: May 19, 2011.

Time: 10 a.m. to 4 p.m. Eastern Time.

Agenda: The Services and Safety Subcommittees of the IACC plan to meet jointly to discuss issues related to seclusion and restraint and autism spectrum disorder (ASD).

Place: Bethesda North Marriott Hotel and Conference Center, 5701 Marinelli Road, Bethesda, MD 20852.

Conference Call: Dial: 888-577-8995. Access code: 1991506.

Cost: The meeting is free and open to the public.

Webcast Live: http://videocast.nih.gov/.

Registration: http://www.acclaroresearch.com/oarc/5-19-11/. Pre-registration is recommended to expedite check-in. Seating in the meeting room is limited to room capacity and on a first come, first served basis.

Access: White Flint Metro (Red Line)—approximately ½ mile walk. Parking at the hotel available with validation.

Contact Person: Ms. Lina Perez, Office of Autism Research Coordination, National Institute of Mental Health, NIH, 6001 Executive Boulevard, NSC, Room 8185a, Rockville, MD 20852. Phone: 301-443-6040. E-mail: IACCPublicInquiries@mail.nih.gov.

Please Note: The meeting will also be accessible to the public through a conference call-in number and webcast live. Members of the public who participate using the conference call phone number will be able to listen to the meeting but will not be heard. If you experience any technical problems with the conference call or webcast, please e-mail IACCTechSupport@acclaroresearch.com or call the IACC Technical Support Help Line at 443-680-0098.

Individuals who participate by using this electronic service and who need special assistance, such as captioning of the conference call or other reasonable accommodations, should submit a request to the Contact Person listed on this notice at least 7 days prior to the meeting.

As part of security procedures, attendees should be prepared to present a photo ID at the meeting registration desk during the check-in process. Pre-registration is recommended. Seating will be limited to the room capacity and seats will be on a first come, first served basis, with expedited check-in for those who are pre-registered.

Schedule subject to change.

Information about the IACC is available on the Web site: http://www.iacc.hhs.gov.

Dated: April 21, 2011.
Anna P. Snouffer,
Deputy Director, Office of Federal Advisory Committee Policy.

[FR Doc. 2011-10213 Filed 4-26-11; 8:45 am]

BILLING CODE 4140-01-P